DEPARTMENT OF EDUCATION

National Advisory Committee on Institutional Quality and Integrity (NACIQI) Meeting

AGENCY: National Advisory Committee on Institutional Quality and Integrity, Office of Postsecondary Education, Department of Education.

What Is the Purpose of This Notice?

The purpose of this notice is to announce the public meeting of the NACIQI and invite third-party oral presentations (3-5 minutes) before the NACIQI. In all instances, your comments about agencies seeking initial recognition, continued recognition, and/or an expansion of an agency's scope of recognition must relate to the Criteria for Recognition found at 20 U.S.C. 1099b and 34 CFR Part 602. In addition, your comments for any agency whose interim report is scheduled for review must relate to the issues raised and the Criteria for Recognition cited in the Secretary's letter, dated April 30, 2007, that requested the interim report. This notice also presents the proposed agenda and informs the public of its opportunity to attend this meeting. The notice of this meeting is required under Section 10(a)(2) of the Federal Advisory Committee Act.

When and Where Will the Meeting Take Place?

We will hold the public meeting on Monday, June 9, 2008, from 9 a.m. until approximately 5:30 p.m., and on Tuesday, June 10, 2008, from 9 a.m. until approximately 5:30 p.m. in the Metropolitan Center at The Liaison Capitol Hill, 415 New Jersey Avenue, NW., Washington, DC 20001. You may call the hotel at (202) 638-1616 to inquire about rooms.

What Assistance Will Be Provided to Individuals With Disabilities?

The meeting site is accessible to individuals with disabilities. If you will need an auxiliary aid or service to participate in the meeting (e.g., interpreting service, assistive listening device, or materials in an alternate format), notify the contact person listed in this notice at least two weeks before the scheduled meeting date. Although we will attempt to meet a request received after that date, we may not be able to make available the requested auxiliary aid or service because of insufficient time to arrange it.

Who Is the Contact Person for the Meeting?

Please contact Ms. Melissa Lewis, NACIQI Executive Director, if you have questions about the meeting. You may contact her at the U.S. Department of Education, Room 7127, 1990 K St., NW., Washington, DC 20006, telephone: (202) 219-7009, fax: (202) 219-7008, e-mail: Melissa.Lewis@ed.gov.

Individuals who use a telecommunications device for the deaf (TDD) may call the Federal Information Relay Service at 1-800-877-8339.

What Is the Authority for the NACIQI?

The NACIQI is established under Section 114 of the Higher Education Act (HEA) as amended, 20 U.S.C. 1011c.

What Are the Functions of the NACIQI?

The NACIQI advises the Secretary of Education about:

• The establishment and enforcement of the Criteria for Recognition of accrediting agencies or associations under Subpart 2 of Part H of Title IV, HEA.

• The recognition of specific accrediting agencies or associations.

• The preparation and publication of the list of nationally recognized accrediting agencies and associations.

• The eligibility and certification process for institutions of higher education under Title IV, HEA.

• The development of standards and criteria for specific categories of vocational training institutions and institutions of higher education for which there are no recognized accrediting agencies, associations, or State agencies in order to establish the interim eligibility of those institutions to participate in Federally funded programs.

• The relationship between: (1) accreditation of institutions of higher education and the certification and eligibility of such institutions, and (2) State licensing responsibilities with respect to such institutions.

• Any other advisory functions relating to accreditation and institutional eligibility that the Secretary may prescribe.

What Items Will Be on the Agenda for Discussion at the Meeting?

Agenda topics will include the review of agencies that have submitted petitions for renewal of recognition and/or an expansion of an agency's scope of recognition, and the review of agencies that have submitted an interim report.

What Agencies Will the NACIQI Review at the Meeting?

The following agencies will be reviewed during the June 9-10, 2008 meeting of the NACIQI:

Nationally Recognized Accrediting Agencies

Petitions for an Expansion of the Scope of Recognition

1. National League for Nursing Accrediting Commission. (Current scope of recognition: The accreditation in the United States of programs in practical nursing, and diploma, associate, baccalaureate and higher degree nurse education programs.) (Requested scope of recognition: The accreditation in the United States of programs in practical nursing, and diploma, associate, baccalaureate and higher degree nurse education programs, including those offered via distance education.)

Petitions for Renewal of Recognition

1. American Bar Association, Council of the Section of Legal Education and Admissions to the Bar. (Current and requested scope of recognition: The accreditation throughout the United States of programs in legal education that lead to the first professional degree in law, as well as freestanding law schools offering such programs. This recognition also extends to the Accreditation Committee of the Section of Legal Education (Accreditation Committee) for decisions involving continued accreditation (referred to by the agency as “approval”) of law schools.)

2. American Board of Funeral Service Education, Committee on Accreditation. (Current and requested scope of recognition: The accreditation of institutions and programs within the United States awarding diplomas, associate degrees, and bachelor's degrees in funeral service or mortuary science, including accreditation of distance learning courses and programs offered by these programs and institutions.)

3. American Speech-Language-Hearing Association, Council on Academic Accreditation in Audiology and Speech-Language Pathology. (Current and requested scope of recognition: The accreditation and preaccreditation (Accreditation Candidate) throughout the United States of education programs in audiology and speech-language pathology leading to the first professional or clinical degree at the master's or doctoral level, and the accreditation of these programs offered via distance education.)

4. Council on Naturopathic Medical Education. (Current and requested scope of recognition: The accreditation and pre-accreditation throughout the United States of graduate-level, four-year naturopathic medical education programs leading to the Doctor of Naturopathic Medicine (N.M.D.) or Doctor of Naturopathy (N.D.).)

5. Montessori Accreditation Council for Teacher Education, Commission on Accreditation. (Current and requested scope of recognition: The accreditation of Montessori teacher education institutions and programs throughout the United States.)

6. National Accrediting Commission of Cosmetology Arts and Sciences. (Current and requested scope of recognition: The accreditation throughout the United States of postsecondary schools and departments of cosmetology arts and sciences and massage therapy.)

Interim Reports

(An interim report is a follow-up report on an accrediting agency's compliance with specific criteria for recognition.)

1. American Bar Association, Council of the Section of Legal Education and Admissions to the Bar.

2. Association for Clinical Pastoral Education, Inc., Accreditation Commission.

3. Southern Association of Colleges and Schools, Commission on Colleges.

4. Western Association of Schools and Colleges, Accrediting Commission for Senior Colleges and Universities.

State Agency Recognized for the Approval of Public Postsecondary Vocational Education

Interim Reports

1. Middle States Commission on Secondary Schools.

2. Pennsylvania State Board of Vocational Education.

State Agencies Recognized for the Approval of Nurse Education

Petitions for Renewal of Recognition

1. North Dakota Board of Nursing.

Who Can Make Third-Party Oral Presentations at This Meeting?

We invite you to make a third-party oral presentation before the NACIQI concerning the recognition of any agency published in this notice.

How Do I Request To Make an Oral Presentation?

You must submit a written request to make an oral presentation concerning an agency listed in this notice to the contact person identified earlier in this notice so that the request is received via mail, fax, or e-mail no later than May 5, 2008.

Your request (no more than six pages maximum) must include:

1. The names, addresses, phone and fax numbers, and e-mail addresses of all persons seeking an appearance,

2. The organization they represent, and

3. A brief summary of the principal points to be made during the oral presentation.

If you wish, you may attach documents illustrating the main points of your oral testimony. Please keep in mind, however, that any attachments are included in the six-page limit.

Please do not send materials directly to NACIQI members. Only materials submitted by the deadline to the contact person listed in this notice and in accordance with these instructions become part of the official record and are considered by the NACIQI in its deliberations. Documents received after the April 28, 2008 deadline will not be distributed to the NACIQI for its consideration. Individuals making oral presentations may not distribute written materials at the meeting.

If I Cannot Attend the Meeting, Can I Submit Written Comments Regarding an Accrediting Agency in Lieu of Making an Oral Presentation?

This notice requests third-party oral testimony, not written comment. A request for written comments on agencies that are being reviewed during this meeting was published in the Federal Register on March 3, 2008. The NACIQI will receive and consider only those written comments that are submitted by April 2, 2008, and in accordance with that Federal Register notice.

How Do I Request To Present Comments Regarding General Issues Rather Than Specific Accrediting Agencies?

At the conclusion of the meeting, the NACIQI, at its discretion, may invite attendees to address the NACIQI briefly on issues pertaining to the functions of the NACIQI, which are listed earlier in this notice. If you are interested in making such comments, you should inform Ms. Lewis before or during the meeting.

How May I Obtain Access to the Records of the Meeting?

We will record the meeting and make a transcript available for public inspection at the U.S. Department of Education, 1990 K St., NW., Washington, DC 20006, between the hours of 9 a.m. and 4:30 p.m., Monday through Friday, except Federal holidays. It is preferred that an appointment be made in advance of such inspection.

How May I Obtain Electronic Access to This Document?

You may view this document, as well as all other Department of Education documents published in the Federal Register, in text or Adobe Portable Document Format (PDF) on the Internet at the following site: http://www.ed.gov/legislation/FedRegister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/index.html.

Authority: 5 U.S.C. Appendix 2.

Dated: April 9, 2008.
Diane Auer Jones,
Assistant Secretary for Postsecondary Education.

[FR Doc. E8-8188 Filed 4-15-08; 8:45 am]

BILLING CODE 4000-01-P